DEPARTMENT OF ENERGY

Federal Energy Regulatory Commission

[Docket No. DI99-2-001]

Alaska Power & Telephone Company; Notice Denying Intervention and Rejecting Request for Rehearing

November 13, 2001.

On August 16, 2001, the Director of the Commission's Division of Hydropower Administration and Compliance, Office of Energy Projects (Director), issued an order ruling on a declaration of intention and finding licensing not required for the proposed Gartina Creek Hydroelectric Project. 96 FERC ¶ 62,162 (2001). On September 17, 2001, Trout Unlimited and American Rivers jointly filed a motion for late intervention and a request for rehearing of the August 16 order.

In determining whether to grant late intervention, the Commission may consider such factors as whether the movant had good cause for filing late, whether the movant's interest is adequately represented by other parties to the proceeding, and whether granting the intervention might result in disruption to the proceedings or prejudice to the parties.¹When late intervention is sought after issuance of a dispositive order, however, extraordinary grounds must be presented to warrant favorable action on the request.² Trout Unlimited and American Rivers assert that the challenged order establishes a significant precedent, and that the Commission may accept late intervention incident to rehearing concerning matters of jurisdiction. This does not establish good cause, and does not address the need to show extraordinary grounds for late intervention. Accordingly, the motion for late intervention is denied. Because only a party to the proceeding may seek rehearing, the request for rehearing filed by Trout Unlimited and American Rivers is rejected.³

¹ See 18 CFR § 385.214(d) (2001).

² See Weber Basin Water Conservancy District, 50 FERC ¶ 61,409 at p. 62,262 (1990).

³ The Commission may, in its discretion, allow late intervention and rehearing concerning matters which relate to its jurisdiction. See, e.g., Alaska Power Company, 81 FERC ¶ 61,239 (1997). In this case, other parties to the proceeding have intervened and sought rehearing of the jurisdictional issues.

This notice constitutes final agency action. Requests for rehearing by the Commission of this notice must be filed within 30 days of the date of issuance of this notice, pursuant to 18 CFR 385.713.

David P. Boergers,
Secretary.

[FR Doc. 01-28781 Filed 11-16-01; 8:45 am]

BILLING CODE 6717-01-P